DEPARTMENT OF ENERGY

Federal Energy Regulatory Commission

Combined Notice of Filings #1

June 25, 2008.

Take notice that the Commission received the following electric corporate filings:

Docket Numbers: EC08-103-000.

Applicants: Potomac Electric Power Company, Sempra Energy Trading LLC, The Royal Bank of Scotland plc.

Description: Potomac Electric Power Co et al submits an application for authorization to transfer its RPM Capacity Rights.

Filed Date: 06/23/2008.

Accession Number: 20080625-0054.

Comment Date: 5 p.m. Eastern Time on Monday, July 14, 2008.

Docket Numbers: EC08-104-000.

Applicants: Weyerhaeuser Company, International Paper Company.

Description: Application of Weyerhaeuser Company and International Paper Company for Authorization under Federal Power Act Section 203, Request for Consideration, and Request for Waivers.

Filed Date: 06/24/2008.

Accession Number: 20080625-5004.

Comment Date: 5 p.m. Eastern Time on Tuesday, July 15, 2008.

Take notice that the Commission received the following electric rate filings:

Docket Numbers: ER97-3834-017.

Applicants: DTE Energy Trading, Inc.

Description: DTE Energy, Trading, Inc submits application for Category 1 Status in All Regions Except the Central Region and submission of Substitute Second Revised Sheet 1A et al to Rate Schedule FERC 1 pursuant to Order 697-A.

Filed Date: 06/23/2008.

Accession Number: 20080625-0053.

Comment Date: 5 p.m. Eastern Time on Monday, July 14, 2008.

Docket Numbers: ER98-855-010.

Applicants: Wisconsin Electric Power Company.

Description: Wisconsin Electric Power Co submits an errata to their 5/23/08 compliance filing to provide proper citation for the Commission's consideration pursuant to Order 697-A.

Filed Date: 06/23/2008.

Accession Number: 20080624-0171.

Comment Date: 5 p.m. Eastern Time on Monday, July 14, 2008.

Docket Numbers: ER01-1011-017; ER01-1335-015; ER01-642-013; ER07-312-005.

Applicants: Redbud Energy LP; Magnolia Energy LP; CottonWood Energy Company LP; Dogwood Energy LLC.

Description: Cottonwood Energy Company, LP et al submits notice of change in status.

Filed Date: 06/23/2008.

Accession Number: 20080625-0050.

Comment Date: 5 p.m. Eastern Time on Monday, July 14, 2008.

Docket Numbers: ER03-191-003.

Applicants: Peaker LLC.

Description: Peaker, LLC submits a request for Category 1 Seller classification.

Filed Date: 06/23/2008.

Accession Number: 20080624-0028.

Comment Date: 5 p.m. Eastern Time on Monday, July 14, 2008.

Docket Numbers: ER04-230-036; ER01-1385-033; ER01-3155-024; EL01-45-032.

Applicants: New York Independent System Operator, Inc.; Consolidated Edison Co. of New York, Inc.

Description: Fourteenth quarterly report on progress to resolve the issue of penalty exemptions for grouped generating facilities whose output is metered at a single location during start-up and shutdown period.

Filed Date: 06/20/2008.

Accession Number: 20080620-5207.

Comment Date: 5 p.m. Eastern Time on Friday, July 11, 2008.

Docket Numbers: ER07-426-001; ER06-1257-001; ER05-1398-002; ER03-1085-005.

Applicants: Covanta Delaware Valley, L.P., Covanta Essex Company, Covanta Niagara, L.P., Covanta Union, Inc.

Description: Covanta Delaware Valley, LP et al submits their triennial market power analysis.

Filed Date: 06/20/2008.

Accession Number: 20080624-0040.

Comment Date: 5 p.m. Eastern Time on Friday, July 11, 2008.

Docket Numbers: ER05-658-002.

Applicants: Harvard Dedicated Energy Limited.

Description: Harvard Dedicated Energy Limited submits a filing explaining why they qualify as a Category 1 seller of wholesale electricity in the Northeast region of the United States etc.

Filed Date: 06/20/2008.

Accession Number: 20080624-0041.

Comment Date: 5 p.m. Eastern Time on Friday, July 11, 2008.

Docket Numbers: ER08-686-001.

Applicants: PEPCO Holdings, Inc.

Description: Potomac Electric Power Company responds to the Commission's 5/23/08 letter requesting additional information in support of the PHI Companies' request for a transmission rate incentive etc.

Filed Date: 06/23/2008.

Accession Number: 20080624-0025.

Comment Date: 5 p.m. Eastern Time on Monday, July 14, 2008.

Docket Numbers: ER08-728-001.

Applicants: Florida Power Corporation.

Description: Progress Energy Florida Inc submits its compliance filing which concerns Florida Power Corporation which concerns FPC's cost-based power sales agreement with Seminole Electric Cooperative, Inc.

Filed Date: 06/20/2008.

Accession Number: 20080624-0026.

Comment Date: 5 p.m. Eastern Time on Friday, July 11, 2008.

Docket Numbers: ER08-749-001.

Applicants: Southwestern Public Service Company.

Description: Southwestern Public Service Company informs that on 3/31/08 SPS submitted a rate case filing in their proceeding, pursuant to Section 205 of the Federal Power Act, proposing a rate increase for its full-requirement wholesale customers.

Filed Date: 06/20/2008.

Accession Number: 20080624-0017.

Comment Date: 5 p.m. Eastern Time on Friday, July 11, 2008.

Docket Numbers: ER08-824-001.

Applicants: PJM Interconnection, L.L.C.

Description: PJM Interconnection, LLC submits their compliance filing, in compliance with FERC's 6/12/08 Order.

Filed Date: 06/23/2008.

Accession Number: 20080625-0049.

Comment Date: 5 p.m. Eastern Time on Monday, July 14, 2008.

Docket Numbers: ER08-825-001.

Applicants: Southwest Power Pool, Inc.

Description: Southwest Power Pool, Inc submits title page to the Large Generator Interconnection Agreement, Service Agreement 1168.

Filed Date: 06/24/2008.

Accession Number: 20080625-0046.

Comment Date: 5 p.m. Eastern Time on Tuesday, July 15, 2008.

Docket Numbers: ER08-1050-001.

Applicants: Dragon Energy LLC.

Description: Dragon Energy, LLC submits revisions to its application for authorization to make wholesale sales of energy and capacity at negotiated market based rates and proposed Rate Schedule 1.

Filed Date: 06/23/2008.

Accession Number: 20080625-0045.

Comment Date: 5 p.m. Eastern Time on Thursday, July 3, 2008.

Docket Numbers: ER08-1089-001.

Applicants: Port Washington Generating Station LLC.

Description: Port Washington Generating Station, LLC submits a Title Page to their 6/6/08 notification of termination of the Rate Schedule 1.

Filed Date: 06/24/2008.

Accession Number: 20080625-0044.

Comment Date: 5 p.m. Eastern Time on Tuesday, July 15, 2008.

Docket Numbers: ER08-1117-000.

Applicants: DC Energy Southwest, LLC.

Description: DC Energy Southwest, LLC submits FERC Electric Tariff, Original Volume 1.

Filed Date: 06/23/2008.

Accession Number: 20080625-0043.

Comment Date: 5 p.m. Eastern Time on Monday, July 14, 2008.

Docket Numbers: ER08-1125-000.

Applicants: Brookfield Renewable Energy Marketing US.

Description: Application for market-based rate authorization and certain waivers and blanket authorizations and motion for expedited treatment re Brookfield Renewable Energy Marketing U.S. LLC.

Filed Date: 06/23/2008.

Accession Number: 20080625-0041.

Comment Date: 5 p.m. Eastern Time on Monday, July 14, 2008.

Docket Numbers: ER08-1126-000; ER08-1127-000; ER08-1128-000; ER08-1129-000; ER08-1130-000; ER08-1131-000; ER08-1132-000; ER08-1133-000; ER08-1134-000; ER08-1135-000; ER08-1136-000; ER08-1137-000; ER08-1138-000; ER08-1139-000; ER07-100-001.

Applicants: Georgia-Pacific Brewton LLC; GP Big Island, LLC; Brunswick Cellulose, Inc.; Georgia-Pacific Cedar Springs LLC; Georgia-Pacific Consumer Operations LLC; Georgia-Pacific Con Ops LLC Port Hudson; Georgia-Pacific Con Prod LP Green Bay W; Georgia-Pacific Consumer Products LP Mus; Georgia-Pacific Cons Prods LP Naheola; Georgia-Pacific Cons Prods LP Savannah; Georgia-Pacific LLC Crosset; Georgia-Pacific Monticello LLC; Georgia-Pacific Toledo LLC; Leaf River Cellulose, LLC; Koch Supply & Trading, LP.

Description: Georgia-Pacific Brewton LLC et al requests approval of joint market-based rate tariff for fourteen separate qualifying cogeneration facilities that have not sold wholesale electricity in jurisdictional markets etc and also filed a reports that they had no sales or purchases of wholesale electric energy or of natural gas to publishers of price indices.

Filed Date: 06/20/2008.

Accession Number: 20080624-0036; 20080624-0145.

Comment Date: 5 p.m. Eastern Time on Friday, July 11, 2008.

Docket Numbers: ER08-1144-000.

Applicants: PJM Interconnection, L.L.C.

Description: PJM Interconnection, LLC submits revisions to the Amended and Restated Operating Agreement of PJM Interconnection, LLC (Operating Agreement or OA) pursuant to Section 205 of the Federal Power Act etc.

Filed Date: 06/20/2008.

Accession Number: 20080624-0022.

Comment Date: 5 p.m. Eastern Time on Friday, July 11, 2008.

Docket Numbers: ER08-1145-000.

Applicants: Bangor Hydro-Electric Company.

Description: Bangor Hydro-Electric Company submits an informational filing showing the implementation of their formula rate for the charges that became effective on 6/1/08.

Filed Date: 06/20/2008.

Accession Number: 20080624-0034.

Comment Date: 5 p.m. Eastern Time on Friday, July 11, 2008.

Docket Numbers: ER08-1147-000.

Applicants: SG Energy LLC.

Description: SG Energy, LLV submits FERc Electric Tariff, Original Volume 1.

Filed Date: 06/20/2008.

Accession Number: 20080624-0032.

Comment Date: 5 p.m. Eastern Time on Friday, July 11, 2008.

Docket Numbers: ER08-1148-000.

Applicants: Citadel Energy Investments Ltd.

Description: Citadel Energy Investments Ltd submits a Notice of Cancellation of Rate Schedule 1.

Filed Date: 06/23/2008.

Accession Number: 20080624-0031.

Comment Date: 5 p.m. Eastern Time on Monday, July 14, 2008.

Docket Numbers: ER08-1149-000.

Applicants: Westar Energy, Inc.

Description: Westar Energy, Inc submits Petition for Approval of Settlement Agreement.

Filed Date: 06/23/2008.

Accession Number: 20080624-0035.

Comment Date: 5 p.m. Eastern Time on Monday, July 14, 2008.

Docket Numbers: ER08-1150-000.

Applicants: The American Electric Power Service Corp.

Description: AEP Operating Companies submits a second revision to the Interconnection and Local Delivery Service Agreement with the Village of Greenwich.

Filed Date: 06/23/2008.

Accession Number: 20080624-0030.

Comment Date: 5 p.m. Eastern Time on Monday, July 14, 2008.

Docket Numbers: ER08-1151-000.

Applicants: New York Independent System Operator, Inc.

Description: Notification of tariff implementation error and request for a limited tariff waiver of New York Independent System Operator, Inc.

Filed Date: 06/20/2008.

Accession Number: 20080624-0029.

Comment Date: 5 p.m. Eastern Time on Friday, July 11, 2008.

Docket Numbers: ER08-1152-000.

Applicants: Potomac Electric Power Company.

Description: Potomac Electric Power Company submits an unexecuted form of an interconnection agreement, attached as Attachment A hereto, that Pepco and Panda-Brandywine, LP will enter into subject to the satisfaction etc.

Filed Date: 06/23/2008.

Accession Number: 20080624-0024.

Comment Date: 5 p.m. Eastern Time on Monday, July 14, 2008.

Docket Numbers: ER08-1159-000.

Applicants: Tampa Electric Company.

Description: Tampa Electric Co submits an amendment to the Transmission Service Agreement with Auburndale Power Partners, LP.

Filed Date: 06/24/2008.

Accession Number: 20080625-0047.

Comment Date: 5 p.m. Eastern Time on Tuesday, July 15, 2008.

Docket Numbers: ER08-1160-000.

Applicants: Sconza Candy Company.

Description: Sconza Candy Company submits Notice of Succession Change of ownership.

Filed Date: 06/25/2008.

Accession Number: 20080625-5014.

Comment Date: 5 p.m. Eastern Time on Wednesday, July 16, 2008.

Take notice that the Commission received the following foreign utility company status filings:

Docket Numbers: FC08-7-000; FC08-8-000; FC08-9-000.

Applicants: P.P.C. Limited; Atlantic Equipment & Power (Turks and Ca; Belize Electric Company Limited.

Description: Notification of Self-Certification of Foreign Utility Company Status of P.P.C. Limited, et al. under FC08-7, et al.

Filed Date: 06/25/2008.

Accession Number: 20080625-5041.

Comment Date: 5 p.m. Eastern Time on Wednesday, July 16, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-14991 Filed 7-1-08; 8:45 am]

BILLING CODE 6717-01-P